DEPARTMENT OF COMMERCE

Foreign-Trade Zones Board

[Docket 43-2010]

Foreign-Trade Subzone 116A—Port Arthur, TX; Expansion of Manufacturing Authority; Motiva Enterprises, LLC (Oil Refinery)

An application has been submitted to the Foreign-Trade Zones Board (the Board) by the Foreign-Trade Zone of Southeast Texas, Inc., grantee of FTZ 116, requesting an expansion of the scope of manufacturing authority approved within Subzone 116A, on behalf of Motiva Enterprises, LLC in Port Arthur, Texas. The application was submitted pursuant to the provisions of the Foreign-Trade Zones Act, as amended (19 U.S.C. 81a-81u), and the regulations of the Board (15 CFR part 400). It was formally filed on July 1, 2010.

Subzone 116A (1,005 employees, 250,000 barrel per day capacity) was approved by the Board in 1993 for the manufacture of fuel products and certain petrochemical feedstocks (Board Order 668, 59 FR 61, 12-3-1994, as amended by Board Order 740, 60 FR 26716-26717, 5-18-1995 and Board Order 1116, 65 FR 52696-52697, 9-30-2000). The subzone consists of six sites in Jefferson and Hardin Counties, Texas: Site 1: (3,036 acres) Port Arthur refinery complex, Jefferson County; Site 2: (402 acres) Port Neches Terminal, Jefferson County; Site 3: (126 acres) Port Arthur Terminal, Jefferson County; Site 4: (37 acres) Sour Lake underground LPG storage facility, Hardin County; Site 5: (63 acres) Seventh Street tank facility, Jefferson County; and, Site 6: (97 acres) National Station Extension Tank Farm, Jefferson County.

The current request involves the construction of additional crude distillation, coking, integrated hydrocracker/diesel hydrocracker, naphtha, catalytic feed, sulfur recovery, power generation and storage units within Site 1. The proposed expansion would increase the overall crude distillation capacity allowed under FTZ procedures to 600,000 barrels per day. No additional feedstocks or products have been requested.

Zone procedures would exempt production associated with the proposed expansion from customs duty payments on the foreign products used in exports. On domestic sales, the company would be able to choose the customs duty rates for certain petrochemical feedstocks (duty-free) by admitting foreign crude oil in non-privileged foreign status. The application indicates that the savings from zone procedures help improve the refinery's international competitiveness.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is September 10, 2010. Rebuttal comments in response to material submitted during the foregoing period may be submitted during the subsequent 15-day period to September 27, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Elizabeth Whiteman at Elizabeth.Whiteman@trade.gov or (202) 482-0473.

Dated: July 1, 2010.
Andrew McGilvray,
Executive Secretary.

[FR Doc. 2010-16915 Filed 7-9-10; 8:45 am]

BILLING CODE P